DEPARTMENT OF THE INTERIOR

Geological Survey

[GX23ZQ00F080400, OMB Control Number 1028-0048]

Agency Information Collection Activities: Did You Feel It? Earthquake Questionnaire

AGENCY: U.S. Geological Survey, Department of the Interior.

ACTION: Notice of renewed information collection; request for comment.

SUMMARY: In accordance with the Paperwork Reduction Act (PRA) of 1995, the U.S. Geological Survey (USGS) is requesting to renew an information collection with revisions.

DATES: Interested persons are invited to submit comments on or before June 13, 2024.

ADDRESSES: Written comments and recommendations for the proposed information collection should be sent within 30 days of publication of this notice to www.reginfo.gov/public/do/PRAMain. Find this particular information collection by selecting “Currently under Review—Open for Public Comments” or by using the search function. Please provide a copy of your comments by mail to USGS, Information Collections Clearance Officer, 12201 Sunrise Valley Drive, MS 159, Reston, VA 20192 or by email to gs-info_collections@usgs.gov. Please reference OMB Control Number 1028-0048.

FOR FURTHER INFORMATION CONTACT: To request additional information about this information collection request (ICR), contact Sara McBride by email at skmcbride@usgs.gov or by telephone at 650-750-5270. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with PRA of 1995 (44 U.S.C. 3501 et seq.) and 5 CFR 1320.8(d)(1), we provide the general public and other federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 17, 2022. (87 FR 69039). No comments were received.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The information gathered in the questionnaire is used by the USGS to provide overviews of the effects of earthquakes on humans and on the human environment. Summaries of the effects of earthquakes, and isoseismal maps that represent them, are published in Preliminary Determination of Epicenters publications of the USGS, in Open-File Reports, or in research publications. Summaries and maps are also distributed electronically from USGS earthquake information web pages. In 1998, we began experimenting with an electronic version of the questionnaire as a way of collecting information from people who were looking at the USGS earthquake information website. The experiment was so successful and the number of questionnaire responses for significant earthquakes increased so quickly, that we were able to eliminate other collection methods. We have collected data exclusively with the web-based questionnaire since 2002.

This addition of the questions means that people who received an alert via the ShakeAlert System or any earthquake early warning system can report their experiences to us quickly, in combination with their experiences of the earthquake. This combined data set can tell us much about how the ShakeAlert system operates, when people receive alerts, how they receive them and what they did once they received them. This is critical information for us to improve the ShakeAlert System.

Title of Collection: Did You Feel It? Earthquake Questionnaire.

OMB Control Number: 1028-0048.

Form Number: None.

Type of Review: Renewal with revisions.

Respondents/Affected Public: Individuals/households.

Total Estimated Number of Annual Respondents: 300,000.

Total Estimated Number of Annual Responses: 300,000.

Estimated Completion Time per Response: 4 minutes.

Total Estimated Number of Annual Burden Hours: 20,000.

Respondent's Obligation: Voluntary.

Frequency of Collection: One-time, in an online survey.

Total Estimated Annual Nonhour Burden Cost: 0.

An agency may not conduct or sponsor, and a person is not required to respond to, a collection of information unless it displays a currently valid OMB control number.

The authority for this action is the PRA.

Gary D. Latzke,
Chief of Staff, USGS, Natural Hazards Mission Area.

[FR Doc. 2024-10362 Filed 5-13-24; 8:45 am]

BILLING CODE 4338-11-P